DEPARTMENT OF DEFENSE

Office of the Secretary

Meeting of the President's Commission on Care for America's Returning Wounded Warriors

AGENCY: Department of Defense.

ACTION: Notice; correction.

SUMMARY: On Friday, April 6, 2007 (72 FR 17136), the Department of Defense published a notice of a meeting of the President's Commission on Care for America's Returning Wounded Warriors. This notice makes corrections to that notice as follows:

FOR FURTHER INFORMATION ON SUBMITTING STATEMENTS CONTACT: Col. Denise Dailey or Adrianne Holloway, toll free (Change from previous submission) 877-588-2035 or Fax statements (703) 588-2046.

13 April 2007

(Change from previous submission)

On 13 April a Sub-Committee of the Commission will visit Bethesda, Naval Hospital. All other information remains unchanged.

Dated: April 5, 2007.
L.M. Bynum,
Alternate OSD Federal Register Liaison Officer, DoD.

[FR Doc. 07-1790 Filed 4-10-07; 8:45 am]

BILLING CODE 5001-06-M